DEPARTMENT OF HEALTH AND HUMAN SERVICES

Health Resources and Services Administration

Request for Comments on Increasing Income Levels Used To Identify a “Low-Income” Family for the Purpose of Providing Training in the Various Health Professions and Nursing Programs Included in Titles VII and VIII of the Public Health Service Act

AGENCY: Health Resources and Services Administration, HHS.

ACTION: Notice.

SUMMARY: This notice requests comments on increasing low-income levels for various programs included in Titles VII and VIII of the Public Health Service (PHS) Act, which use “low-income” levels to determine eligibility for program participation. The Department periodically publishes in the Federal Register low-income levels used to determine eligibility for grants and cooperative agreements to institutions providing training for (1) disadvantaged individuals, (2) individuals from a disadvantaged background, or (3) individuals from “low-income” families.

DATES: Interested persons are invited to comment on the proposed low-income levels for the programs listed below. All comments received on or before April 30, 2001 will be considered when final low-income levels are determined for purposes of eligibility for participation in the programs listed below.

ADDRESSES: Written comments should be addressed to Ms. Sarah Richards, Evaluation Officer, Bureau of Health Professions (BHPr), Health Resources and Services Administration, Room 8-67, Parklawn Building, 5600 Fishers Lane, Rockville, Maryland 20857.

FOR FURTHER INFORMATION CONTACT: Ms. Sarah Richards, Evaluation Officer, BHPr; telephone number (301) 443-5452.

SUPPLEMENTARY INFORMATION: This notice is to announce the proposed increase in income levels that is intended for use in determining eligibility for participation in the following programs:

Advanced Education Nursing (section 811)

Allied Health Special Projects (section 755)

Basic Nurse Education and Practice (section 831)

Dental Public Health (section 768)

Faculty Loan Repayment and Minority Faculty Fellowship Program (section 738)

General and Pediatric Dentistry (section 747)

Health Administration Traineeships and Special Projects (section 769)

Health Careers Opportunity Program (section 739)

Loans to Disadvantaged Students (section 724)

Physician Assistant Training (section 747)

Primary Care Residency Training (section 747)

Public Health Traineeships (section 767)

Quentin N. Burdick Program for Rural Interdisciplinary Training (section 754)

Residency Training in Preventive Medicine (section 768)

Scholarships for Disadvantaged Students (section 737)

Public Health Training Centers (section 766)

Nursing Workforce Diversity (section 821)

These programs generally award grants to accredited schools of medicine, osteopathic medicine, public health, dentistry, veterinary medicine, optometry, pharmacy, allied health, podiatric medicine, nursing, chiropractic, public or private nonprofit schools which offer graduate programs in behavioral health and mental health practice, and other public or private nonprofit health or education entities to assist the disadvantaged to enter and graduate from health professions and nursing schools. Some programs provide for the repayment of health professions or nursing education loans for disadvantaged students.

Proposed Low-Income Levels

The Secretary proposes that, for programs included in Titles VII and VIII of the PHS Act, a “low-income” family be defined as having an annual income that does not exceed 200 percent of the Department's poverty guidelines. The Department poverty guidelines are published annually for general use while the Department's HRSA low-income levels are specific to the programs listed under the Supplementary Information section of this notice. This notice proposes an increase over the income level currently used, which is 130 percent of the Department's poverty guidelines. The Department's poverty guidelines are based on poverty thresholds published by the U.S. Census Bureau, adjusted annually for changes in the Consumer Price Index.

The Secretary would continue to adjust the low-income levels annually based on the Department's poverty guidelines and make them available to persons responsible for administering the applicable programs.

In developing the revised family income levels for determining eligibility for the applicable Titles VII and VIII programs, the Secretary chose 200 percent of the Department's poverty guidelines for the following reasons: First, 200 percent of the poverty guidelines is a statutory eligibility level used by the Department for the State Children's Health Insurance Program (SCHIP), which provides health care insurance to children who are from families with incomes too high to qualify for Medicaid but too low to afford private health insurance. Secondly, the proportion of the population below 200 percent of the Census Bureau poverty thresholds is one criterion used by the Department in the designation of population groups with shortages of health care providers. Thus, using 200 percent of the Department poverty guidelines to determine low-income status is consistent with other Department programs and activities directed toward uninsured and underserved individuals and population groups.

The Secretary has developed the proposed income levels as a means of assuring that the applicable Titles VII and VIII programs most effectively contribute to the attainment of the HRSA goals of increasing diversity and improving distribution in the health care workforce.

These programs are not subject to the provisions of Executive Order 12372, Intergovernmental Review of Federal Programs (as implemented through 45 CFR part 100).

These programs are not subject to the Public Health Systems Reporting Requirements.

Dated: March 16, 2001.
Claude Earl Fox,
Administrator.

[FR Doc. 01-7841 Filed 3-29-01; 8:45 am]

BILLING CODE 4160-15-U